DEPARTMENT OF TRANSPORTATION

Federal Aviation Administration

14 CFR Part 39

[Docket No. FAA-2025-0477; Project Identifier MCAI-2024-00422-T; Amendment 39-23059; AD 2025-12-01]

RIN 2120-AA64

Airworthiness Directives; Bombardier Inc. Airplanes

AGENCY: Federal Aviation Administration (FAA), DOT.

ACTION: Final rule.

SUMMARY: The FAA is adopting a new airworthiness directive (AD) for certain Bombardier Inc. Model BD-700-1A10 and BD-700-1A11 airplanes. This AD was prompted by a report that incorrect information was found in certain calculation tables in a section of the airplane flight manual (AFM) that addresses certain slat-flap conditions. This AD requires revising the Non-Normal Procedures section of the existing AFM to provide the flightcrew with corrected procedures to use in certain slat-flap conditions. The FAA is issuing this AD to address the unsafe condition on these products.

DATES: This AD is effective July 17, 2025.

The Director of the Federal Register approved the incorporation by reference of certain publications listed in this AD as of July 17, 2025.

ADDRESSES:

AD Docket: You may examine the AD docket at regulations.gov under Docket No. FAA-2025-0477; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Bombardier material identified in this AD, contact Bombardier Business Aircraft Customer Response Center, 400 Côte-Vertu Road West, Dorval, Québec H4S 1Y9, Canada; telephone 514-855-2999; email ac.yul@aero.bombardier.com; website bombardier.com.

• You may view this material at the FAA, Airworthiness Products Section, Operational Safety Branch, 2200 South 216th St., Des Moines, WA. For information on the availability of this material at the FAA, call 206-231-3195. It is also available at regulations.gov under Docket No. FAA-2025-0477.

FOR FURTHER INFORMATION CONTACT: Gabriel Kim, Aviation Safety Engineer, FAA, 1600 Stewart Avenue, Suite 410, Westbury, NY 11590; telephone 516-228-7300; email 9-avs-nyaco-cos@faa.gov.

SUPPLEMENTARY INFORMATION:

Background

The FAA issued a notice of proposed rulemaking (NPRM) to amend 14 CFR part 39 by adding an AD that would apply to certain serial-numbered Bombardier Inc. Model BD-700-1A10 and BD-700-1A11 airplanes. The NPRM was published in the Federal Register on March 26, 2025 (90 FR 13709). The NPRM was prompted by AD CF-2024-27, dated July 24, 2024, issued by Transport Canada, which is the aviation authority for Canada (also referred to as “the MCAI”). The MCAI states that incorrect approach speed adders and landing distance factors were discovered in the AFM tables for the SLAT-FLAP FAIL (Caution) Crew Alerting System (CAS) message and the jammed or inoperative slat/flap control lever (SFCL) non-normal procedures. The incorrect speed adders and landing distance factors present a potentially unsafe condition due to the shortfall between the actual performance and the approved performance.

In the NPRM, the FAA proposed to require revising the Non-Normal Procedures section of the existing AFM to provide the flightcrew with corrected procedures to use in certain slat-flap conditions. The FAA is issuing this AD to address incorrect speed adders and landing distance factors in AFM tables. The unsafe condition, if not addressed, could lead to increased workload for the flightcrew, possible stick shaker activation (stall warning) due to a need to increase speed beyond the published AFM speed adder, and increased landing distance beyond published non-normal landing distance factors.

You may examine the MCAI in the AD docket at regulations.gov under Docket No. FAA-2025-0477.

Discussion of Final Airworthiness Directive

Comments

The FAA received no comments on the NPRM or on the determination of the cost to the public.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on this product. Except for minor editorial changes, this AD is adopted as proposed in the NPRM. None of the changes will increase the economic burden on any operator.

Material Incorporated by Reference Under 1 CFR Part 51

The FAA reviewed the following Bombardier material. This material describes procedures to address certain slat-flap conditions (i.e., Slat-flap fail (Caution) CAS message, or a jammed or inoperative SFCL). These documents are distinct since they apply to different configurations and different airplane models.

• Section 05-10 Flight Controls, Chapter 5—Non-Normal Procedures (which includes the Jammed or Inoperative Slat/Flap Control Lever Procedure and Slat-Flap Fail (Caution) procedure), Bombardier Global Express AFM, Publication No. CSP 700-1, Revision 119, dated May 22, 2024. (For obtaining the procedures for Bombardier Global Express AFM, Publication No. CSP 700-1, use Document Identification No. GL 700 AFM-1.)

• Chapter 7—Supplement 20—Operations at Airport Elevations Above 10,000 Feet (which includes Jammed or Inoperative Slat/Flap Control Lever procedure and Slat-Flap Fail procedures); Bombardier Global Express AFM, Publication No. CSP 700-1, Revision 119, dated May 22, 2024. (For obtaining the procedures for Bombardier Global Express AFM, Publication No. CSP 700-1, use Document Identification No. GL 700 AFM-1.)

• Section 05-10 Flight Controls, Chapter 5—Non-Normal Procedures (which includes the Jammed or Inoperative Slat/Flap Control Lever Procedure and Slat-Flap Fail (Caution) procedure), Bombardier Global Express AFM, Publication No. CSP 700-1A, Revision 119, dated May 22, 2024. (For obtaining the procedures for Bombardier Global Express AFM, Publication No. CSP 700-1A, use Document Identification No. GL 700 AFM-1A.)

• Chapter 7—Supplement 20—Operations at Airport Elevations Above 10,000 Feet (which includes Jammed or Inoperative Slat/Flap Control Lever procedure and Slat-Flap Fail procedures), Bombardier Global Express AFM, Publication No. CSP 700-1A, Revision 119, dated May 22, 2024. (For obtaining the procedures for Bombardier Global Express AFM, Publication No. CSP 700-1A, use Document Identification No. GL 700 AFM-1A.)

• Section 05-10 Flight Controls, Chapter 5—Non-Normal Procedures (which includes the Jammed or Inoperative Slat/Flap Control Lever Procedure and Slat-Flap Fail (Caution) procedure), Bombardier Global 6000 AFM, Publication No. CSP 700-1V, Revision 49, dated May 22, 2024. (For obtaining the procedures for Bombardier Global 6000 AFM, Publication No. CSP 700-1V, use Document Identification No. GL 6000 AFM.)

• Chapter 7—Supplement 20—Operations at Airport Elevations Above 10,000 Feet (which includes Jammed or Inoperative Slat/Flap Control Lever procedure and Slat-Flap Fail procedures), Bombardier Global 6000 AFM, Publication No. CSP 700-1V, Revision 49, dated May 22, 2024. (For obtaining the procedures for Bombardier Global 6000 AFM, Publication No. CSP 700-1V, use Document Identification No. GL 6000 AFM.)

• Section 05-10 Flight Controls, Chapter 5—Non-Normal Procedures (which includes the Jammed or Inoperative Slat/Flap Control Lever Procedure and Slat-Flap Fail (Caution) procedure) Bombardier Global 5000 AFM, Publication No. CSP 700-5000-1 AFM, Revision 80, dated May 22, 2024. (For obtaining the procedures for Bombardier Global 5000 AFM, Publication No. CSP 700-5000-1, use Document Identification No. GL 5000 AFM.)

• Chapter 7—Supplement 20—Operations at Airport Elevations Above 10,000 Feet (which includes Jammed or Inoperative Slat/Flap Control Lever procedure and Slat-Flap Fail procedures), Bombardier Global 5000 AFM, Publication No. CSP 700-5000-1 AFM, Revision 80, dated May 22, 2024. (For obtaining the procedures for Bombardier Global 5000 AFM, Publication No. CSP 700-5000-1, use Document Identification No. GL 5000 AFM.)

• Section 05-10 Flight Controls, Chapter 5—Non-Normal Procedures (which includes the Jammed or Inoperative Slat/Flap Control Lever Procedure and Slat-Flap Fail (Caution) procedure), Bombardier Global 5000 Featuring Global Vision Flight Deck AFM, Publication No. CSP 700-5000-1V, Revision 49, dated May 22, 2024. (For obtaining the procedures for Bombardier Global 5000 Featuring Global Vision Flight Deck AFM, Publication No. CSP 700-5000-1V, use Document Identification No. GL 5000 GVFD AFM.)

• Chapter 7—Supplement 20—Operations at Airport Elevations Above 10,000 Feet (which includes Jammed or Inoperative Slat/Flap Control Lever procedure and Slat-Flap Fail procedures), Bombardier Global 5000 Featuring Global Vision Flight Deck AFM, Publication No. CSP 700-5000-1V, Revision 49, dated May 22, 2024. (For obtaining the procedures for Bombardier Global 5000 Featuring Global Vision Flight Deck AFM, Publication No. CSP 700-5000-1V, use Document Identification No. GL 5000 GVFD AFM.)

• Section 05-10 Flight Controls, Chapter 5—Non-Normal Procedures (which includes the Jammed or Inoperative Slat/Flap Control Lever Procedure and Slat-Flap Fail (Caution) procedure), Bombardier Global 5500 AFM, Publication No. CSP 700-5500-1, Revision 21, dated May 22, 2024. (For obtaining the procedures for Bombardier Global 5500 AFM, Publication No. CSP 700-5500-1, use Document Identification No. GL 5500 AFM.)

• Section 05-10 Flight Controls, Chapter 5—Non-Normal Procedures (which includes the Jammed or Inoperative Slat/Flap Control Lever Procedure and Slat-Flap Fail (Caution) procedure), Bombardier Global 6500 AFM, Publication No. CSP 700-6500-1, Revision 21, dated May 22, 2024. (For obtaining the procedures for Bombardier Global 6500 AFM, Publication No. CSP 700-6500-1, use Document Identification No. GL 6500 AFM.)

This material is reasonably available because the interested parties have access to it through their normal course of business or by the means identified in the ADDRESSES section.

Costs of Compliance

The FAA estimates that this AD affects 476 airplanes of U.S. registry. The FAA estimates the following costs to comply with this AD:

Estimated Costs for Required Actions
Labor cost | Parts cost | Cost per product | Cost on U.S. operators
1 work-hour × $85 per hour = $85 | None | $85 | $40,460

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-12-01 Bombardier Inc.: Amendment 39-23059; Docket No. FAA-2025-0477; Project Identifier MCAI-2024-00422-T.

(a) Effective Date

This airworthiness directive (AD) is effective July 17, 2025.

(b) Affected ADs

None.

(c) Applicability

This AD applies to Bombardier Inc. Model BD-700-1A10 and BD-700-1A11 airplanes, certificated in any category, having serial numbers 9002 through 60086 inclusive, 60088 through 60091 inclusive, 60098, 60100, 60105, 60107, and 60111.

(d) Subject

Air Transport Association (ATA) of America Code 27, Flight Controls.

(e) Unsafe Condition

This AD was prompted by a report that incorrect information was found in certain calculation tables in a section of the airplane flight manual (AFM) that addresses certain slat-flap conditions. The FAA is issuing this AD to address incorrect speed adders and landing distance factors in AFM tables. The unsafe condition, if not addressed, could lead to increased workload for the flightcrew, possible stick shaker activation (stall warning) due to a need to increase speed beyond the published AFM speed adder, and increased landing distance beyond published non-normal landing distance factors.

(f) Compliance

Comply with this AD within the compliance times specified, unless already done.

(g) Revision of Existing AFM

Within 30 days after the effective date of this AD, revise the existing AFM to incorporate the information in the applicable sections of the applicable AFMs identified in table 1 to paragraph (g) of this AD.

Table 1 to Paragraph (g)—AFM References
Bombardier airplane model (marketing designation) | AFM | AFM section | AFM supplement, if applicable | AFM revision and issue date
BD-700-1A10 (Global Express) | Bombardier Global Express AFM, Publication No. CSP 700-1 ¹ | Jammed or Inoperative Slat/Flap Control Lever Procedure and Slat-Flap Fail (Caution) procedure, Slat and Flap Control Systems subsection, Section 05-10 Flight Controls, of Chapter 5—Non-Normal Procedures | Jammed or Inoperative Slat/Flap Control Lever procedure and Slat-Flap Fail procedure, Landing Distance Factors subsection of Non-Normal Procedures section of Chapter 7—Supplement 20—Operations at Airport Elevations Above 10,000 Feet | Revision 119, dated May 22, 2024.
BD-700-1A10 (Global Express XRS) | Bombardier Global Express AFM, Publication No. CSP 700-1A ² | Jammed or Inoperative Slat/Flap Control Lever Procedure and Slat-Flap Fail (Caution) procedure, Slat and Flap Control Systems subsection, Section 05-10 Flight Controls, of Chapter 5—Non-Normal Procedures | Jammed or Inoperative Slat/Flap Control Lever procedure and Slat-Flap Fail procedure, Landing Distance Factors subsection of Non-Normal Procedures section of Chapter 7—Supplement 20—Operations at Airport Elevations Above 10,000 Feet | Revision 119, dated May 22, 2024.
BD-700-1A10 (Global 6000) | Bombardier Global 6000 AFM, Publication No. CSP 700-1V ³ | Jammed or Inoperative Slat/Flap Control Lever Procedure and Slat-Flap Fail (Caution) procedure, Slat and Flap Control Systems subsection, Section 05-10 Flight Controls, of Chapter 5—Non-Normal Procedures | Jammed or Inoperative Slat/Flap Control Lever procedure and Slat-Flap Fail procedure, Landing Distance Factors subsection of Non-Normal Procedures section of Chapter 7—Supplement 20—Operations at Airport Elevations Above 10,000 Feet | Revision 49, dated May 22, 2024.
BD-700-1A10 (Global 6500) | Bombardier Global 6500 AFM, Publication No. CSP-700-6500-1 ⁴ | Jammed or Inoperative Slat/Flap Control Lever Procedure and Slat-Flap Fail (Caution) procedure, Slat and Flap Control Systems subsection, Section 05-10 Flight Controls, of Chapter 5—Non-Normal Procedures | None | Revision 21, dated May 22, 2024.
BD-700-1A11 (Global 5000) | Bombardier Global 5000 AFM, Publication No. CSP 700-5000-1 ⁵ | Jammed or Inoperative Slat/Flap Control Lever Procedure and Slat-Flap Fail (Caution) procedure, Slat and Flap Control Systems subsection, Section 05-10 Flight Controls, of Chapter 5—Non-Normal Procedures | Jammed or Inoperative Slat/Flap Control Lever procedure and Slat-Flap Fail procedure, Landing Distance Factors subsection of Non-Normal Procedures section of Chapter 7—Supplement 20—Operations at Airport Elevations Above 10,000 Feet | Revision 80, dated May 22, 2024.
BD-700-1A11 (Global 5000 Featuring Global Vision Flight Deck) | Bombardier Global 5000 Featuring Global Vision Flight Deck AFM, Publication No. CSP 700-5000-1V ⁶ | Jammed or Inoperative Slat/Flap Control Lever Procedure and Slat-Flap Fail (Caution) procedure, Slat and Flap Control Systems subsection, Section 05-10 Flight Controls, of Chapter 5—Non-Normal Procedures | Jammed or Inoperative Slat/Flap Control Lever procedure and Slat-Flap Fail procedure, Landing Distance Factors subsection of Non-Normal Procedures section of Chapter 7—Supplement 20—Operations at Airport Elevations Above 10,000 Feet | Revision 49, dated May 22, 2024.
BD-700-1A11 (Global 5500) | Bombardier Global 5500 AFM, Publication No. CSP 700-5500-1 ⁷ | Jammed or Inoperative Slat/Flap Control Lever Procedure and Slat-Flap Fail (Caution) procedure, Slat and Flap Control Systems subsection, Section 05-10 Flight Controls, of Chapter 5—Non-Normal Procedures | None | Revision 21, dated May 22, 2024.
¹ For obtaining the procedures for Bombardier Global Express AFM, Publication No. CSP 700-1, use Document Identification No. GL 700 AFM-1.
² For obtaining the procedures for Bombardier Global Express AFM, Publication No. CSP 700-1A, use Document Identification No. GL 700 AFM-1A.
³ For obtaining the procedures for Bombardier Global 6000 AFM, Publication No. CSP 700-1V, use Document Identification No. GL 6000 AFM.
⁴ For obtaining the procedures for Bombardier Global 6500 AFM, Publication No. CSP 700-6500-1, use Document Identification No. GL 6500 AFM.
⁵ For obtaining the procedures for Bombardier Global 5000 AFM, Publication No. CSP 700-5000-1, use Document Identification No. GL 5000 AFM.
⁶ For obtaining the procedures for Bombardier Global 5000 Featuring Global Vision Flight Deck AFM, Publication No. CSP 700-5000-1V, use Document Identification No. GL 5000 GVFD AFM.
⁷ For obtaining the procedures for Bombardier Global 5500 AFM, Publication No. CSP 700-5500-1, use Document Identification No. GL 5500 AFM.

(h) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (i) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Bombardier's Transport Canada Design Approval Organization (DAO). If approved by the DAO, the approval must include the DAO-authorized signature.

(i) Additional Information

For more information about this AD, contact Gabriel Kim, Aviation Safety Engineer, FAA, 1600 Stewart Avenue, Suite 410, Westbury, NY 11590; telephone 516-228-7300; email 9-avs-nyaco-cos@faa.gov.

(j) Material Incorporated by Reference

(1) The Director of the Federal Register approved the incorporation by reference of the material listed in this paragraph under 5 U.S.C. 552(a) and 1 CFR part 51.

(2) You must use this material as applicable to do the actions required by this AD, unless this AD specifies otherwise.

(i) Section 05-10 Flight Controls, Chapter 5—Non-Normal Procedures, Bombardier Global Express Airplane Flight Manual (AFM), Publication No. CSP 700-1, Revision 119, dated May 22, 2024.

Note 1 to paragraph (j)(2)(i): For obtaining the procedure specified in paragraph (j)(2)(i) and (viii) of this AD for Bombardier Global Express AFM, Publication No. CSP 700-1, use Document Identification No. GL 700 AFM-1.

(ii) Section 05-10 Flight Controls, Chapter 5—Non-Normal Procedures Bombardier Global Express AFM, Publication No. CSP 700-1A, Revision 119, dated May 22, 2024.

Note 2 to paragraph (j)(2)(ii): For obtaining the procedures specified in paragraph (j)(2)(ii) and (ix) of this AD for Bombardier Global Express AFM, Publication No. CSP 700-1A, use Document Identification No. GL 700 AFM-1A.

(iii) Section 05-10 Flight Controls, Chapter 5—Non-Normal Procedures, Bombardier Global 6000 AFM, Publication No. CSP 700-1V, Revision 49, dated May 22, 2024.

Note 3 to paragraph (j)(2)(iii): For obtaining the procedures specified in paragraphs (j)(2)(iii) and (x) of this AD for Bombardier Global 6000 AFM, Publication No. CSP 700-1V, use Document Identification No. GL 6000 AFM.

(iv) Section 05-10 Flight Controls, Chapter 5—Non-Normal Procedures, Bombardier Global 6500 AFM, Publication No. CSP 700-6500-1, Revision 21, dated May 22, 2024.

Note 4 to paragraph (j)(2)(iv): For obtaining the procedures specified in paragraph (j)(2)(iv) of this AD for Bombardier Global 6500 AFM, Publication No. CSP 700-6500-1, use Document Identification No. GL 6500 AFM.

(v) Section 05-10 Flight Controls, Chapter 5—Non-Normal Procedures, Bombardier Global 5000 AFM, Publication No. CSP 700-5000-1 AFM, Revision 80, dated May 22, 2024.

Note 5 to paragraph (j)(2)(v): For obtaining the procedures specified in paragraphs (j)(2)(v) and (xi) of this AD for Bombardier Global 5000 AFM, Publication No. CSP 700-5000-1, use Document Identification No. GL 5000 AFM.

(vi) Section 05-10 Flight Controls, Chapter 5—Non-Normal Procedures, Bombardier Global 5000 Featuring Global Vision Flight Deck AFM, Publication No. CSP 700-5000-1V, Revision 49, dated May 22, 2024.

Note 6 to paragraph (j)(2)(vi): For obtaining the procedures specified in paragraphs (j)(2)(vi) and (xii) of this AD for Bombardier Global 5000 Featuring Global Vision Flight Deck AFM, Publication No. CSP 700-5000-1V, use Document Identification No. GL 5000 GVFD AFM.

(vii) Section 05-10 Flight Controls, Chapter 5—Non-Normal Procedures, Bombardier Global 5500 AFM, Publication No. CSP 700-5500-1, Revision 21, dated May 22, 2024.

Note 7 to paragraph (j)(2)(vii): For obtaining the procedures specified in paragraph (j)(2)(vii) of this AD for Bombardier Global 5500 AFM, Publication No. CSP 700-5500-1, use Document Identification No. GL 5500 AFM.

(viii) Chapter 7—Supplement 20—Operations at Airport Elevations Above 10,000 Feet, Bombardier Global Express AFM, Publication No. CSP 700-1, Revision 119, dated May 22, 2024.

(ix) Chapter 7—Supplement 20—Operations at Airport Elevations Above 10,000 Feet, Bombardier Global Express AFM, Publication No. CSP 700-1A, Revision 119, dated May 22, 2024.

(x) Chapter 7—Supplement 20—Operations at Airport Elevations Above 10,000 Feet, Bombardier Global 6000 AFM, Publication No. CSP 700-1V, Revision 49, dated May 22, 2024.

(xi) Chapter 7—Supplement 20—Operations at Airport Elevations Above 10,000 Feet, Bombardier Global 5000 AFM, Publication No. CSP 700-5000-1 AFM, Revision 80, dated May 22, 2024.

(xii) Chapter 7—Supplement 20—Operations at Airport Elevations Above 10,000 Feet, Bombardier Global 5000 Featuring Global Vision Flight Deck AFM, Publication No. CSP 700-5000-1V, Revision 49, dated May 22, 2024.

(3) For Bombardier material identified in this AD, contact Bombardier Business Aircraft Customer Response Center, 400 Côte-Vertu Road West, Dorval, Québec H4S 1Y9, Canada; telephone 514-855-2999; email ac.yul@aero.bombardier.com; website bombardier.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on June 4, 2025.
Steven W. Thompson,
Acting Deputy Director, Compliance & Airworthiness Division, Aircraft Certification Service.

[FR Doc. 2025-10683 Filed 6-11-25; 8:45 am]

BILLING CODE 4910-13-P